DEPARTMENT OF ENERGY

Federal Energy Regulatory Commission

[Project No. 13234-001]

City and Borough of Sitka; Notice of Scoping Meeting and Site Visit and Soliciting Scoping Comments for an Applicant Prepared Environmental Assessment Using the Alternative Licensing Process

September 4, 2009.

a. Type of Application: Alternative Licensing Process.

b. Project No.: 13234-001.

c. Applicant: City and Borough of Sitka.

d. Name of Project: Takatz Lake Hydroelectric Project.

e. Location: On the Takatz Lake and Takatz Creek, approximately 20 miles east of the City of Sitka, Alaska, on the east side of Baranof Island. The project would occupy lands of the Tongass National Forest, administered by the U.S. Forest Service.

f. Filed Pursuant to: Federal Power Act, 16 U.S.C. 791(a)-825(r).

g. Applicant Contact: Christopher Brewton, Utility Manager, City and Borough of Sitka, Electric Department, 105 Jarvis Street, Sitka, Alaska 99835; (907) 747-1870, e-mail: chrisb@cityofsitka.com.

h. FERC Contact: Joseph Adamson, at (202) 502-2085; or at e-mail at joseph.adamson@ferc.gov.

i. Deadline for filing scoping comments: December 8, 2009.

All documents (original and eight copies) should be filed with: Kimberly D. Bose, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov/docs-filing/ferconline.asp) under the “e-filing” link. For a simpler method of submitting text only comments, click on “Quick Comment.”

j. The Takatz Lake project would consist of: (1) A newly constructed concrete arch dam with a crest elevation of 1,052 feet mean sea level (msl), a spillway elevation of 1,040 feet msl, and a structural height of 200 feet; (2) a 30-foot-high secondary saddle dam; (3) an increase in the Takatz Lake impoundment with a 740-acre surface area and a 124,000 acre-feet storage capacity at spillway elevation of 1,040 feet msl; (4) an intake structure for a 2,800-foot-long, 6.5-foot by 7-foot modified unlined horseshoe tunnel, leading to a 72-inch-diameter 1,000-foot-long steel penstock; (5) a 4,000 square foot powerhouse: (6) two Francis-type generating units, having a total installed capacity of 27.6 megawatts; (7) an approximately 4-mile-long access road; (8) an approximately 21-mile-long, 115 kilovolt (kv) or 138 kv transmission line that consists of a combination of submarine, overhead, and underground segments; and (9) other appurtenant equipment.

k. Scoping Process: The City and Borough of Sitka (City) is using the Federal Energy Regulatory Commission's (Commission) alternative licensing process (ALP). Under the ALP, the City will prepare an Applicant Prepared Environmental Assessment (APEA) and license application for the Takatz Lake Hydroelectric Project.

Although it is our intent to prepare an EA, there is a possibility the Commission will prepare an Environmental Impact Statement (EIS) for the project. This meeting will satisfy the NEPA scoping requirements.

The purpose of this notice is to inform you of the opportunity to participate in the upcoming scoping meetings identified below, and to solicit your scoping comments.

Scoping Meetings

The City and the Commission staff will hold two scoping meetings, one in the daytime and one in the evening, to help us identify the scope of issues to be addressed in the APEA.

The daytime scoping meeting will focus on resource agency concerns, while the evening scoping meeting is primarily for public input. All interested individuals, organizations, and agencies are invited to attend one or both of the meetings, and to assist the staff in identifying the environmental issues that should be analyzed in the APEA. The times and locations of these meetings are as follows:

Daytime Meeting

Wednesday, October 7, 2009, 1 p.m. (Alaska ST), U.S. Forest Service Conference Room, 5th Floor, Room 541A, Federal Building, 709 West 9th Street, Juneau, AK 99801.

Evening Meeting

Thursday, October 8, 2009, 7 p.m. (Alaska ST), Centennial Hall, Harrigan Centennial Hall, 330 Harbor Drive, Sitka, AK 99835.

To help focus discussions, Scoping Document 1 was mailed September 4, 2009, outlining the subject areas to be addressed in the APEA to the parties on the mailing list. Copies of the SD1 also will be available at the scoping meetings. SD1 is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. You may also register online at http://www.ferc.gov/docs-filing/esubscription.asp to be notified via e-mail of new filings and issuances related to this or other pending projects. For assistance, contact FERC Online Support.

Site Visit

The potential applicant and Commission staff will conduct a site visit of the project on Thursday, October 8, 2009, starting at 8:30 a.m. All participants should meet at City of Sitka's Electric Department at 105 Jarvis Street, Sitka, Alaska 99835. Anyone with questions about the site visit should contact Mr. Christopher Brewton of the City and Borough of Sitka at (907) 747-1870 on or before October 2, 2009.

Based on all written comments received, a Scoping Document 2 (SD2) may be issued. SD2 will include a revised list of issues, based on the scoping sessions.

Objectives

At the scoping meetings, the staff will: (1) Summarize the environmental issues tentatively identified for analysis in the APEA; (2) solicit from the meeting participants all available information, especially quantifiable data, on the resources at issue; (3) encourage statements from experts and the public on issues that should be analyzed in the APEA, including viewpoints in opposition to, or in support of, the staff's preliminary views; (4) determine the resource issues to be addressed in the APEA; and (5) identify those issues that require a detailed analysis, as well as those issues that do not require a detailed analysis.

Procedures

The meetings will be recorded by a stenographer and will become part of the formal record of the Commission proceeding on the project.

Individuals, organizations, and agencies with environmental expertise and concerns are encouraged to attend the meetings and to assist the City in defining and clarifying the issues to be addressed in the APEA.

Kimberly D. Bose,
Secretary.

[FR Doc. E9-22091 Filed 9-14-09; 8:45 am]

BILLING CODE 6717-01-P